DEPARTMENT OF THE INTERIOR

National Park Service

[NPS-WASO-NAGPRA-NPS0033081; PPWOCRADN0-PCU00RP14.R50000]

Notice of Inventory Completion: Sam Noble Oklahoma Museum of Natural History, University of Oklahoma, Norman, OK

AGENCY: National Park Service, Interior.

ACTION: Notice.

SUMMARY: The Sam Noble Oklahoma Museum of Natural History (Museum) at the University of Oklahoma has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum at the address in this notice by January 10, 2022.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, University of Oklahoma, Norman, OK. The human remains and associated funerary objects were removed from Wilcox County, AL, and Pittsburg County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of The Choctaw Nation of Oklahoma and The Muscogee (Creek) Nation (hereafter referred to as “The Tribes”).

History and Description of the Remains

Sometime prior to 1970, human remains representing, at minimum, one individual were removed from an unknown site (1Wx00) in Wilcox County, AL. The human remains were obtained by a University of Oklahoma student prior to 1970, and subsequently were brought to the Museum. The fragmentary human remains belong to a female 35-50 years old. No known individual was identified. No associated funerary objects were present.

The human remains were interred during the pre-contact era. Based on geographical, historical, and linguistic evidence, as well oral history and other information gained through tribal consultation, this individual was most likely associated with one of the Muskogean language speaking groups and, consequently, is culturally affiliated with The Tribes.

In 1951, human remains representing, at minimum, four individuals were removed from a field at the Moody site (34Ps28) in Pittsburg County, OK. The human remains and associated funerary objects were recovered by archeologists from the University of Oklahoma. Subsequently, they were turned over to the Museum. The human remains include the complete skeletons of a young adult male 20-35 years old; a young adult female 20-35 years old; the partial skeleton of a young adult male 20-35 years old; and the fragmentary remains of an infant 1-3 years old. No known individuals were identified. The 408 associated funerary objects include 70 ceramic sherds, 12 porcelain sherds, one porcelain saucer fragment, one tea cup fragment with floral designs, 73 animal teeth and bone fragments, seven glass fragments, one ceramic pipe bowl fragment, 195 stone flakes, six projectile points, two projectile point fragments, one stone scraper, one gunflint, one stone cobble, four unidentified metal fragments, one tin cup, one brass ornament harness fragment, one brass spoon fragment, one steel fragment, one iron forged tomahawk head, two iron knives with bone handles, two iron bullet molds, one iron forged chain link, two unidentified iron fragments, one iron wrench, two bags of charred wood mixed with daub fragments or matrix, two charcoal fragments, and 16 fragments of daub.

The Moody site has been dated to the period A.D. 1850-1900. Based on archeological, geographical, linguistic, and historical evidence, as well oral history and information gained through tribal consultation, this site was most likely occupied by one of the Muskogean language speaking groups. Consequently, these individuals are culturally affiliated with The Tribes.

Determinations Made by the Sam Noble Oklahoma Museum of Natural History

Officials of the Sam Noble Oklahoma Museum of Natural History have determined that:

• Pursuant to 25 U.S.C. 3001(9), the human remains described in this notice represent the physical remains of five individuals of Native American ancestry.

• Pursuant to 25 U.S.C. 3001(3)(A), the 408 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Marc Levine, Associate Curator of Archaeology, Sam Noble Oklahoma Museum of Natural History, University of Oklahoma, 2401 Chautauqua Avenue, Norman, OK 73072-7029, telephone (405) 325-1994, email mlevine@ou.edu, by January 10, 2022. After that date, if no additional requestors have come forward, transfer of control of the human remains and associated funerary objects to The Tribes may proceed. The Sam Noble Oklahoma Museum of Natural History is responsible for notifying The Tribes that this notice has been published.

Dated: December 3, 2021.
Melanie O'Brien,
Manager, National NAGPRA Program.

[FR Doc. 2021-26781 Filed 12-9-21; 8:45 am]

BILLING CODE 4312-52-P